DEPARTMENT OF JUSTICE

Federal Bureau of Investigation

[OMB Number 1110-NEW]

Agency Information Collection Activities; Proposed Collection, Comments Requested; Three Fingerprint Cards: Arrest and Institution; Applicant; Personal Identification

ACTION: 60-day Notice of Information Collection Under Review.

The Department of Justice, Federal Bureau of Investigation, Criminal Justice Information Services Division has submitted the following information collection request to the Office of Management and Budget (OMB) for review and clearance in accordance with established review procedures of the Paperwork Reduction Act of 1995. The proposed information collection is published to obtain comments from the public and affected agencies. Comments are encouraged and will be accepted for “sixty days” until October 27, 2006. This process is conducted in accordance with 5 CFR 1320.10.

All comments and suggestions, or questions regarding additional information, to include obtaining a copy of the proposed information collection instrument with instructions, should be directed to Penny L. Valentine, Management/Program Analyst, Federal Bureau of Investigation, Criminal Justice Information Services Division (CJIS), Identification and Investigative Services Section, Support Services Unit, Module E-1, 1000 Custer Hollow Road, Clarksburg, West Virginia, 26306, or facsimile to (304) 625-5392.

Written comments and suggestions from the public and affected agencies concerning the proposed collection of information are encouraged. Comments should address one or more of the following four points:

(1) Evaluate whether the proposed collection of information is necessary for the proper performance of the functions of the agency, including whether the information will have a practical utility;

(2) Evaluate the accuracy of the agency's estimate of the burden of the propose collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Overview of this information collection:

(1) Type of information collection: Approval of existing collection in use without an OMB control number.

(2) The title of the form/collection: Three Fingerprint Cards: Arrest and Institution; Applicant; Personal Identification.

(3) The agency form number, if any, and the applicable component of the department sponsoring the collection: Forms FD-249 (Arrest and Institution), FD-258 (Applicant), and FD-353 (Personal Identification); Criminal Justice Information Services Division, Federal Bureau of Investigation, Department of Justice.

(4) Affected public who will be asked or required to respond, as well as a brief abstract: Primary: City, County, State, Federal and tribal law enforcement agencies; civil entities requesting security clearance and background checks. This collection is needed to collect information on individuals requesting background checks, security clearance, or those individuals who have been arrested for or accused of criminal activities. Acceptable data is stored as part of the Integrated Automated Fingerprint Identification System (IAFIS) of the Federal Bureau of Investigation.

(5) An estimate of the total number of respondents and the amount of time estimated for an average respondent to respond: There are approximately 80,100 agencies as respondents at 10 minutes per fingerprint card completed.

(6) An estimate of the total public burden (in hours) associated with this collection:There are approximately 486,724 annual burden hours associated with this collection.

FOR FURTHER INFORMATION CONTACT: Ms. Lynn Bryant, Department Clearance Officer, Justice Management Division, United States Department of Justice, Patrick Henry Building, Suite 1600, 601 D Street, NW., Washington, DC 20530.

Dated: August 23, 2006.
Lynn Bryant,
Department Clearance Officer, United States Department of Justice.

[FR Doc. E6-14279 Filed 8-25-06; 8:45 am]

BILLING CODE 4410-02-P